FEDERAL MEDIATION AND CONCILIATION SERVICE

29 CFR Part 1404

Proposed Changes to Arbitration Policies, Functions, and Procedures

AGENCY: Federal Mediation and Conciliation Service.

ACTION: Proposed rule: extension of comment period.

SUMMARY: This document extends the comment period for the proposed rule published on July 7, 2005 at 70 FR page 39209.

The Federal Mediation and Conciliation Service (FMCS) is proposing to revise 29 CFR part 1404, Arbitration Services. The revisions are intended to set forth the criteria and procedures for listing on the arbitration roster, removal from the arbitration roster, and expedited arbitration processing. Other changes include how parties may request arbitration lists or panels and fees associated with the arbitrators. The purpose of these changes is to facilitate the management and administration of the arbitration roster.

DATES: Written comments must be submitted to the office listed in the address section below on or before December 6, 2005.

ADDRESSES: Submit comments to the Maria A. Fried, General Counsel, Federal Mediation and Conciliation Service, 2100 K Street, NW., Washington, DC 20427. Comments may be submitted also by fax at (202) 606-5345 or electronic mail (e-mail) to mfried@fmcs.gov. All comments and data in electronic form must be identified by the appropriate agency form number.

FOR FURTHER INFORMATION CONTACT: Maria A. Fried, General Counsel and Federal Register Liaison, FMCS, 2100 K Street, NW., Washington, DC 20427. Telephone (202) 606-5444; Fax (202) 606-5345.

Dated: August 31, 2005.
Maria A. Fried,
General Counsel and Federal Register Contact.

[FR Doc. 05-17648 Filed 9-6-05; 8:45 am]

BILLING CODE 6732-01-P